DEPARTMENT OF ENERGY

Federal Energy Regulatory Commission

[Docket Nos. RP97-71-019 and RP97-312-008]

Transcontinental Gas Pipe Line Corporation; Notice of Proposed Changes in FERC Gas Tariff

March 15, 2000.

Take notice that on March 7, 2000, Transcontinental Gas Pipe Line Corporation (Transco) tendered for filing to its FERC Gas Tariff, Third Revised Volume No. 1, certain revised tariff sheets which tariff sheets are enumerated in Appendix A attached to the filing. The tariff sheets are proposed to be effective April 1, 2000.

On January 20, 1998, Transco filed a Stipulation and Agreement (Settlement) in Docket No. RP97-71 which, among other things, resolved Transco's cost of service, overall throughput level, and mix of throughput for the RP97-71 rate period. Article VI, Section B of the Settlement, as approved by the June 12 Order, requires Transco, “[t]o the extent necessary to prevent Transco from over-collecting its costs”, to make a limited Section 4 rate filing to adjust the cost of service, cost allocations, throughput and throughput mix underlying Transco's existing rates “coincident with the ‘spin-down’ of all or a portion of Transco's gathering or transmission (as currently functionalized) facilities.”

On February 17, 1998, in Docket No. CP98-242-000, Transco filed for approval to abandon by sale to Williams Gas Processing-Gulf Coast Gathering Company, L.P. the Tilden/McMullen Gathering System. On May 4, 1999, the Commission issued an order approving the abandonment of certain limited gathering facilities (the Facilities) and permitting Transco one year to effectuate the spin-down. In compliance with the Settlement and the Commission's order, Transco proposes to effectuate the spin-down of the Facilities on April 1, 2000.

Transco states that it is serving copies of the instant filing to its affected customers, State Commissions and other interested parties.

Any person desiring to protest this filing should file a protest with the Federal Energy Regulatory Commission, 888 First Street, NE, Washington, DC 20426, in accordance with section 385.211 of the Commission's Rules and Regulations. All such protests must be filed as provided in section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

Linwood A. Watson, Jr.,
Acting Secretary.

[FR Doc. 00-6888 Filed 3-20-00; 8:45 am]

BILLING CODE 6717-01-M